SMALL BUSINESS ADMINISTRATION

National Small Business Development Centers Advisory Board

AGENCY: Small Business Administration.

ACTION: Notice of open Federal Advisory Committee meeting.

SUMMARY: The SBA is issuing this notice to announce the cancellation of the July 17, 2018 meeting of the Federal Advisory Committee for the Small Business Development Centers Program. Future meetings of the Committee will be publicized as details become available.

FOR FURTHER INFORMATION CONTACT: Anne Reim, Office of Small Business Development Centers, U.S. Small Business Administration, 409 Third Street SW, Washington, DC 20416; anne.reim@sba.gov; 202-205-9565.

If anyone wishes to learn more about the Committee, please contact Anne Reim at the information above.

SUPPLEMENTARY INFORMATION: Pursuant to section l0(a) of the Federal Advisory Committee Act (5 U.S.C. Appendix 2), the SBA announces the meetings of the National SBDC Advisory Board. This Board provides advice and counsel to the SBA Administrator and Associate Administrator for Small Business Development Centers.

John Woodard,
White House Liaison.

[FR Doc. 2018-14622 Filed 7-6-18; 8:45 am]

BILLING CODE P